OFFICE OF THE UNITED STATES TRADE REPRESENTATIVE

Free Trade Area of the Americas: Request for Identification of Private Sector Experts Related to Electronic Commerce

AGENCY: Office of the United States Trade Representative

ACTION: Identification of private sector experts in electronic commerce who may wish to participate in the work of the Free Trade Area of the Americas (FTAA) Joint Government-Private Sector Committee of Experts on Electronic Commerce (Joint Committee).

SUMMARY: The Joint Committee was established by the 34 countries in the Western Hemisphere participating in the Free Trade Area of the Americas to make recommendations on how to increase and broaden the benefits to be derived from the electronic marketplace. The Trade Policy Staff Committee (TPSC) seeks to identify U.S. private sector experts on issues related to electronic commerce who may be interested in participating in the work of the Joint Committee. Interested members of the public are invited to submit written notice of their interest and their qualifications.

DATES: Written expressions of interest in participating in the work of the Joint Committee should be submitted no later than March 24, 2000.

FOR FURTHER INFORMATION CONTACT: For procedural questions concerning public comments, contact Gloria Blue, Executive Secretary, Trade Policy Staff Committee, Office of the United States Trade Representative, (202) 395-3475. All other questions concerning the Joint Committee may be directed to Regina Vargo, Deputy Assistant Secretary for the Western Hemisphere, U.S. Department of Commerce (202) 482-5324, Regina_Vargo@ita.doc.gov

SUPPLEMENTARY INFORMATION: At the Second Summit of the Americas in April 1998, in Santiago, Chile, the 34 democratically elected Western Hemisphere leaders initiated negotiations to create the FTAA no later than the year 2005. They established nine initial negotiating groups, a consultative group, and two committees, one of which is the Joint Committee, which began its work in August 1998. The trade ministers mandated that both government and private sector experts meet as the Joint Committee to make recommendations on how to increase and broaden the benefits of electronic commerce; the Joint Committee is not a negotiating group. Inclusion of the private sector on the committee is consistent with President Clinton's principle that the private sector should take the lead in global electronic commerce.

The Joint Committee was chaired by the Government of Barbados during the initial 18-month period and will be chaired by an Uruguayan private sector representative and vice chaired by a Canadian government representative through April 2001. Ms. Regina Vargo, Deputy Assistant Secretary for the Western Hemisphere, U.S. Department of Commerce, leads the joint U.S. government-pride sector delegation to the Joint Committee.

Status of Work in the Joint Committee: At the FTAA Ministerial meeting in Toronto in November 1999, trade minister received, and released to the public, a report prepared by the Joint Committee reflecting the culmination of its discussions over the preceding 18 months on a broad range of electronic commerce issues; its recommendations on increasing and broadening the benefits of electronic commerce were drafted with the full participation of government and private sector experts from every region in the Hemisphere. FTAA trade ministers committed to share the report and its recommendations with other relevant authorities within their governments. They also requested that the Joint Committee continue its work as a non-negotiating group and produce further recommendations over the next 18-month period. The full report ( Report with Recommendations to Ministers,'' FTAA.ecom/01) is available in English and Spanish on the official FTAA website (http://www.ftaa-alca.org) and the U.S. Government Electronic Commerce website (http://www.ecommerce.gov).

The Joint Committee met most recently on January 25-26, 2000 in Miami. At this meeting, the Joint Committee's private sector and government representatives identified issues to be discussed during the next phase of its work. The Joint Committee will focus on issues related to access and infrastructure, small and medium-sized enterprises, authentication, and online payments, and consider developments in other areas such as intellectual property, taxation and consumer protection. The Joint Committee will make further recommendations to trade ministers for their consideration at the next FTAA Ministerial meeting in April 2001.

Private Sector Participation: During the first 18-month period, 13 U.S. private sector representatives, reflecting a balance of interests and electronic commerce issue expertise, participated in the work of the Joint Committee. All had responded to notices in the Federal Register (63 FR 42090 August 6, 1998 and 64 FR 26811, May 17, 1999) or to request to official trade advisors inviting expressions of interest and qualifications to participate in the work of the Joint Committee.

Public Comments

As the Joint Committee enters the second phases in the FTAA process, the TPSC is seeking to solicit anew U.S. private sector interest in participation on the Joint Committee, taking into consideration its current work plan. In order to assist the TPSC in identifying U.S. private sector experts on issues related to electronic commerce, members of the public are invited to submit written notice of their interest and describe their qualifications. Qualifications of interest include: demonstrated expertise in one or more aspects of electronic commerce; knowledge of the Western Hemisphere, including established contacts with foreign private sector interests in the region; an ability and willingness to broadly solicit views from and disseminate information to private sector interests; and familiarity with U.S. and foreign trade and investment policies and obligations and developments in electronic commerce fora.

Those persons wishing to make written submissions should provide twenty (20) typed copies (in English) no later than noon, Friday, March 24, 2000 to Gloria Blue, Executive Secretary, Trade Policy Staff Committee, Office of the U.S. Trade Representative, Room 122, 600 17th Street, NW, Washington, D.C., 20508.

Written submissions in connection with this request will be available for public inspection in the USTR Reading Room, Room 101, Office of the United States Trade Representative, 600 17th St., N.W., Washington, D.C. An appointment to review the file may be made by calling Brenda Webb (202) 395-6186. The Reading Room is open to the public from 9:30 a.m. to 12 noon, and from 1 p.m. to 4 p.m. Monday through Friday.

Carmen Suro-Bredie,
Acting Chairman, Trade Policy Staff Committee.

[FR Doc. 00-4805 Filed 2-28-00; 8:45 am]

BILLING CODE 3901-01-M